DEPARTMENT OF THE INTERIOR

Bureau of Land Management

[MT-926-03-1420-BJ]

Montana: Filing of Plat of Amended Protraction Diagram

AGENCY: Bureau of Land Management, Montana State Office, Interior.

ACTION: Notice of filing of plat of amended protraction diagram.

SUMMARY: The Bureau of Land Management (BLM) will file the plat of the amended protraction diagram of the lands described below in the BLM Montana State Office, Billings, Montana, (30) days from the date of publication in the Federal Register.

FOR FURTHER INFORMATION CONTACT: Robert L. Brockie, Cadastral Surveyor, Branch of Cadastral Surveyor, Bureau of Land Management, 5001 Southgate Drive, P.O. Box 36800, Billings, Montana 59107-6800, telephone (406) 896-5125 or (406) 896-5009.

SUPPLEMENTARY INFORMATION: The amended protraction diagram was prepared at the request of the U.S. Forest Service and was necessary to accommodate Revision of Primary Base Quadrangle Maps for the Geometronics Service Center. The lands for the prepared amended protraction diagram are:

Principal Meridian, Montana

Tps. 8, 9, and 10 S., Rs. 2, 3, 4, 5, 6, and 7 E.

The plat, representing the Amended Protraction Diagram 2 Index of unsurveyed Townships 8, 9, and 10 South, Ranges 2, 3, 4, 5, 6, and 7 East, Principal Meridian, Montana, was accepted March 11, 2003.

T. 8 S., R. 7 E.

The plat, representing Amended Protraction Diagram 2 of unsurveyed Township 8 South, Range 7 East, Principal Meridian, Montana, was accepted August 2, 2002.

T. 9 S., R. 2 E.

The plat, representing Amended Protraction Diagram 2 of unsurveyed Township 9 South, Range 2 East, Principal Meridian, Montana, was accepted August 2, 2002.

T. 9 S., R. 4 E.

The plat, representing Amended Protraction Diagram 2 of unsurveyed Township 9 South, Range 4 East, Principal Meridian, Montana, was accepted March 11, 2003.

T. 9 S., R. 5 E.

The plat, representing Amended Protraction Diagram 2 of unsurveyed Township 9 South, Range 5 East, Principal Meridian, Montana, was accepted August 2, 2002.

T. 9 S., R. 6 E.

The plat, representing Amended Protraction Diagram 2 of unsurveyed Township 9 South, Range 6 East, Principal Meridian, Montana, was accepted August 2, 2002.

T. 9 S., R. 7 E.

The plat, representing Amended Protraction Diagram 2 of unsurveyed Township 9 South, Range 7 East, Principal Meridian, Montana, was accepted August 2, 2002.

T. 10 S., R. 2 E.

The plat, representing Amended Protraction Diagram 2 of unsurveyed Township 10 South, Range 2 East, Principal Meridian, Montana, was accepted August 2, 2002.

T. 10 S., R. 3 E.

The plat, representing Amended Protraction Diagram 2 of unsurveyed Township 10 South, Range 3 East, Principal Meridian, Montana, was accepted August 2, 2002.

T. 10 S., R. 4 E.

The plat, representing Amended Protraction Diagram 2 of unsurveyed Township 10 South, Range 4 East, Principal Meridian, Montana, was accepted August 2, 2002.

T. 10 S., R. 5 E.

The plat, representing Amended Protraction Diagram 2 of unsurveyed Township 10 South, Range 5 East, Principal Meridian, Montana, was accepted March 11, 2003.

We will place a copy of the plat of the amended protraction diagram we described in the open files. It will be available to the public as a matter of information.

If BLM receives a protest against this amended protraction diagram, as shown on this plat, prior to the date of the official filing, we will stay the filing pending our consideration of the protest.

We will not officially file the plat of the amended protraction diagram until the day after we have accepted or dismissed all protests and it becomes final, including decisions or appeals.

Dated: March 17, 2003.
Thomas M. Deiling,
Chief Cadastral Surveyor, Division of Resources.

[FR Doc. 03-6991 Filed 3-24-03; 8:45 am]

BILLING CODE 4310-$$-P